FEDERAL COMMUNICATIONS COMMISSION

47 CFR Part 73

[DA 03-50; MB Docket Nos. 03-6, 03-7; RM-RM-10595, RM-10596]

Radio Broadcasting Services; Garysburg, Roanoke Rapids, North Carolina; Caledonia, Upper Sandusky, OH

AGENCY: Federal Communications Commission.

ACTION: Proposed rule.

SUMMARY: The Commission seeks comment on proposals in two separate docketed proceedings in a multiple docket Notice of Proposed Rule Making. The first, filed by MainQuad Communications, Inc., proposes to reallot Channel 272A from Roanoke Rapids, North Carolina, to Garysburg, North Carolina, as the community's second local aural transmission service, and modify the license for Station WPTM(FM) to reflect the change of community. Channel 272A can be reallotted from Roanoke Rapids, to Garysburg, North Carolina at MainQuad's requested existing transmitter site 9.4 kilometers (5.8 miles) northwest of the community at coordinates 40-35-43 NL and 93-02-59 WL. The second, filed by Clear Channel Broadcasting Licenses, Inc. proposes to reallot Channel 240A from Upper Sandusky, Ohio to Caledonia, Ohio, as the community's first local aural transmission service, and modify the license for Station WYNT(FM) to reflect the change of community. Channel 240A can be reallotted from Upper Sandusky to Caledonia, Ohio, at Clear Channel's requested site 8.2 kilometers (5.1 miles) southwest of the community at coordinates 40-35-43 NL and 93-02-59 WL.

DATES: Comments must be filed on or before March 10, 2003, and reply comments must be filed on or before March 25, 2003.

ADDRESSES: Federal Communications Commission, 445 Twelfth Street, SW., Washington, DC 20554. In addition to filing comments with the FCC, interested parties should serve the petitioner, his counsel, or consultant, as follows: MainQuad Communications, Inc., c/o John M. Pelkey, Esq., Garvey, Schuber & Barer, 5th Floor, 1000 Potomac Street, NW., Washington, DC 20007; and Clear Channel Broadcasting Licenses, Inc., c/o Marissa G. Repp, Esq., F. William LeBeau, Esq., Hogan & Hartson, LLP, 555 13th Street, NW., Washington, DC 20004.

FOR FURTHER INFORMATION CONTACT: Victoria M. McCauley, Mass Media Bureau, (202) 418-2180.

SUPPLEMENTARY INFORMATION: This is a synopsis of the Commission's Notice of Proposed Rule Making, MB Docket Nos. 03-6 and 03-7, adopted January 15, 2003, and released January 17, 2003. The full text of this document is available for public inspection and copying during regular business hours at the FCC Reference Information Center, Portals II, 445 12th Street, SW., Room CY-A257, Washington, DC 20554. This document may also be purchased from the Commission's duplicating contractor, Qualex International, Portals II, 445 12th Street, SW., Room CY-B402, Washington, DC 20554, telephone 202-863-2893, facsimile 202-863-2898, or via e-mail qualexint@aol.com.

The Provisions of the Regulatory Flexibility Act of 1980 do not apply to this proceeding. Members of the public should note that from the time a Notice of Proposed Rule Making is issued until the matter is no longer subject to Commission consideration or court review, all ex parte contacts are prohibited in Commission proceedings, such as this one, which involve channel allotments. See 47 CFR 1.1204(b) for rules governing permissible ex parte contacts.

For information regarding proper filing procedures for comments, see 47 CFR 1.415 and 1.420.

List of Subjects in 47 CFR Part 73

Radio, Radio broadcasting.

For the reasons discussed in the preamble, the Federal Communications Commission proposes to amend 47 CFR Part 73 as follows:

PART 73—RADIO BROADCAST SERVICES

1. The authority citation for Part 73 continues to read as follows:

Authority: 47 U.S.C. 154, 303, 334 and 336.

2. Section 73.202(b), the Table of FM Allotments under North Carolina is amended by adding Channel 272A at Garysburg and by removing Roanoke Rapids, Channel 272A.

3. Section 73.202(b), the Table of FM Allotments under Ohio, is amended by adding Caledonia, Channel 240A and by removing Upper Sandusky, Channel 240A.

Federal Communications Commission.
John A. Karousos,
Assistant Chief, Audio Division Media Bureau.

[FR Doc. 03-2667 Filed 2-4-03; 8:45 am]

BILLING CODE 6712-01-P